DEPARTMENT OF AGRICULTURE

Forest Service

California Coast Provincial Advisory Committee

AGENCY: Forest Service, USDA.

ACTION: Notice of meeting.

SUMMARY: The California Coast Provincial Advisory Committee (PAC) will meet on June 2 and 3, 2004, in Lake County, California. The purpose of the meeting is to discuss issues relating to implementing the Northwest Forest Plan (NWFP).

DATES: The meeting will be held from 9 a.m. to 5 p.m. on June 2, and from 9 a.m. to noon on June 3, 2004.

ADDRESSES: The meeting will be held at the Robinson Rancheria Administration Building, 1545 E. Highway 20 in Nice, CA.

FOR FURTHER INFORMATION CONTACT: Phebe Brown, Committee Coordinator, USDA, Mendocino National Forest, 825 N. Humboldt Avenue, Willows, CA, 95988, (530) 934-1137; e-mail pybrown@fs.fed.us.

SUPPLEMENTARY INFORMATION: Agenda items to be covered include: (1) Regional Ecosystem Office (REO) update; (2) Provincial Interagency Executive Committee (PIEC) response to the Aquatic Conservation Subcommittee report and recommendations; (3) Redwood National and State Parks public scoping for the Updated Road Rehabilitation Strategy; (4) follow up proposal regarding Redwood Creek Estuary restoration; (5) panel discussion on options for silvicultural treatments; (6) agency and constituency updates; (7) introduction of an issue for consideration by the PAC concerning the collaboration role of the PAC on Healthy Forests Restoration Act projects: (8) field trip to the Upper Lake District, Pillsbury Homesite Fuel Reduction Project area; and (9) public comment. The meeting is open to the public. Public input opportunity will be provided and individuals will have the opportunity to address the Committee at that time.

Dated: May 4, 2004.
James D. Fenwood,
Forest Supervisor.

[FR Doc. 04-10725 Filed 5-11-04; 8:45 am]

BILLING CODE 3410-11-M